DEPARTMENT OF TRANSPORTATION

Federal Aviation Administration

Availability of the Final Environmental Assessment and Finding of No Significant Impact and Record of Decision for the Proposed Eastgate Air Cargo Facility, San Bernardino International Airport, San Bernardino County, California

AGENCY: Federal Aviation Administration, DOT.

ACTION: Notice of availability for the Final Environmental Assessment and Finding of No Significant Impact and Record of Decision.

SUMMARY: The Federal Aviation Administration (FAA) is issuing this notice to advise the public that it has published the Final Environmental Assessment (EA) and Finding of No Significant Impact (FONSI) and Record of Decision (ROD) signed by the FAA that evaluated proposed Eastgate Air Cargo Facility project at San Bernardino International Airport (SBD), San Bernardino, San Bernardino County, California.

FOR FURTHER INFORMATION CONTACT: David B. Kessler, AICP, Regional Environmental Protection Specialist, AWP-610.1, Office of Airports, Federal Aviation Administration, Western-Pacific Region, 777 South Aviation Boulevard, Suite 150, El Segundo, California 90245, Telephone: 424-405-7315.

SUPPLEMENTARY INFORMATION: The FAA as lead agency, has completed and is publishing the Final Environmental Assessment (EA) and Finding of No Significant Impact (FONSI) and Record of Decision (ROD) for the proposed Eastgate Air Cargo Facility at San Bernardino International Airport (SBD). The FONSI/ROD was prepared under Title 40, Code of Federal Regulations § 1505.2.

FAA signed Final Environmental Assessment (EA) for this proposed project on December 20, 2019. The Final EA was prepared by pursuant to the National Environmental Policy Act of 1969 and assessed the potential impact of the proposed Eastgate Air Cargo Facility as well as the No Action Alternative where the proposed air cargo facility at the airport would be made.

In the FONSI and ROD, the FAA identified the Eastgate Air Cargo Facility as the preferred alternative in meeting the purpose and need to accommodate an unmet demand for air cargo facilities at the airport. The Eastgate Air Cargo Facility the following components: Construction of a 658,500-square-foot (sf) sort, distribution, and office building (Air Cargo Sort Building); Construction of about 31 acres of taxilane and aircraft parking apron to support 14 aircraft concurrently ranging from Boeing-737 to Boeing-767 aircraft; Construction of approximately 12 acres of ground support equipment (GSE) parking and operational support areas; Construction of two separate 25,000-sf GSE maintenance buildings; Construction of an about 2000 employee auto parking stalls and 380 semi-trailer parking stalls; Construction of two new driveways into the project site would include two clear-span bridges crossing the City Creek Bypass Channel; Construction of Third Street modifications to tie-in road gradients and turning lanes with bridge entrances; Installation of new security fencing, vehicle and pedestrian gates and a guard shack; Installation of pole-mounted and/or building-mounted exterior lights for vehicle and truck parking lots, Air Cargo Sort Building, and aircraft parking apron; Installation of appropriate airfield lights and signage for the aircraft parking apron and taxilanes; Land clearing, demolition, excavation, embankment, and grading; Extension of utilities to the Proposed Project including electrical, natural gas, water, sanitary sewer, communications, and other related infrastructure; Installation of stormwater management systems and infrastructure; landscaping, Project Commitment 1: Require Use of Electric Ground Support Equipment. With the exception of the fuel trucks and lavatory service trucks, which are assumed to operate on diesel fuel, the SBIAA will require the use of ground support equipment that can operate on electric battery power, and Project Commitment 2: Construct a Second Eastbound Left Turn Land and a Second Westbound Left Turn Lane at Victoria Avenue and Third Street. SBIAA shall be responsible for constructing a second eastbound left turn land and a second westbound left turn late at Victoria Avenue. and Third Street.

Copies of the Final EA and FONSI/ROD are available for public review at the following locations during normal business hours:

• U.S. Department of Transportation, Federal Aviation Administration, Western-Pacific Region, Office of Airports, 777 S. Aviation Boulevard, Suite 150, El Segundo, California 90245

• San Bernardino International Airport Authority Administration Offices, 1601 East Third Street, San Bernardino, California 92408

The Final EA may be viewed at San Bernardino International Airport's website: http://www.sbiaa.org/.

The FONSI and ROD may also be viewed at FAA's website: https://www.faa.gov/airports/environmental/records_decision/ and the SBIAA's website.

Copies of the Final EA and FONSI and ROD are also available at the following libraries:

• Highland Sam J. Racadio Branch Public Library and Environmental Learning Center, 7863 Central Ave, Highland, California 92346

• San Bernardino County Library, Lake Arrowhead Branch, 27235 Highway 189, Blue Jay, California 92317

• Norman F. Feldheym Public Library, 555 W 6th St., San Bernardino, California 92410

Questions on the Final EA and FONSI/ROD may be directed to the individual above under the heading FOR FURTHER INFORMATION CONTACT.

Issued in El Segundo, California on December 23, 2019.
Mark A. McClardy,
Director, Office of Airports, Western—Pacific Region, AWP-600.

[FR Doc. 2019-28346 Filed 12-31-19; 8:45 am]

BILLING CODE 4910-13-P